COMMITTEE FOR PURCHASE FROM PEOPLE WHO ARE BLIND OR SEVERELY DISABLED

Procurement List; Proposed Deletions

AGENCY: Committee for Purchase From People Who Are Blind or Severely Disabled.

ACTION: Proposed Deletions from the Procurement List.

SUMMARY: The Committee is proposing to delete products previously furnished by nonprofit agencies employing persons who are blind or have other severe disabilities.

DATES: Comments must be received on or before: 5/18/2015.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION:

This notice is published pursuant to 41 U.S.C. 8503(a)(2) and 41 CFR 51-2.3. Its purpose is to provide interested persons an opportunity to submit comments on the proposed actions.

Deletions

The following products are proposed for deletion from the Procurement List:

Products

Product Name/NSN: Rain Gauge, 4″/6660-00-920-3722.

Mandatory Source of Supply: Productive Alternatives, Inc., Fergus Falls, MN.

Contracting Activity: Dept of Comm/Office of the Secretary, Kansas City, MO.

Product Name(s)/NSN(s): Brassard, Military Police/8455-00-818-8826, Brassard, Army, Military/8455-01-236-1174.

Mandatory Source of Supply: No NPA Assigned.

Contracting Activity: Defense Logistics Agency Troop Support, Philadelphia, PA.

Product Name/NSN(s): Vest, Load Bearing Equipment, 8465-01-440-3690—Rappel Seat, Assembly, Part No 3505-06-203—strap, Leg, Part No 3505-06-205—Strap, Waist, 8465-01-440-5883—Harness, SPIE, Assembly.

Mandatory Source of Supply: Chautauqua County Chapter, NYSARC, Jamestown, NY.

Contracting Activity: Dept of the Navy, Commander, Quantico, VA.

Barry S. Lineback,
Director, Business Operations.

[FR Doc. 2015-08848 Filed 4-16-15; 8:45 am]

BILLING CODE 6353-01-P